DEPARTMENT OF JUSTICE

Notice of Lodging of Proposed Settlement Agreement Under the Clean Air Act, Clean Water Act, Resource Conservation and Recovery Act, and Emergency Planning and Community Right-to-Know Act

On April 13, 2020, the Department of Justice lodged a proposed Stipulation of Settlement and Order (“Agreement”) with the United States District Court for the District of Puerto Rico in the lawsuit entitled United States v. TAPI Puerto Rico, Inc., Civil Action No. 3:20-cv-01178.

In this action, the United States filed a Complaint alleging that TAPI Puerto Rico, Inc. (“TAPI”) violated various provisions of the Clean Air Act (“CAA”), 42 U.S.C. 7401 et seq., the Clean Water Act (“CWA”), 33 U.S.C. 1251 et seq., the Resource Conservation and Recovery Act (“RCRA”), 42 U.S.C. 6901 et seq., and the Emergency Planning and Community Right-to-Know Act (“EPCRA”), 42 U.S.C. 11001 et seq., at its pharmaceutical manufacturing facility in Guayama, Puerto Rico (the “Facility”). The Complaint alleges that TAPI failed to comply with the CAA's provisions governing the emission of hazardous air pollutants (“HAPs”) from its pharmaceutical production process and hazardous waste equipment, in violation of Sections 112, 502 and 504 of the CAA, 42 U.S.C. 7412, 7661a, and 7661c, and EPA's implementing regulations; discharged wastewater to the local publicly owned treatment works without abiding by its industrial discharge permit requirements, in violation of Section 307 of the CWA, 33 U.S.C. 1317, and EPA's implementing regulations; stored hazardous waste in tanks, containers and an aeration basin either without a RCRA permit or in violation of its permit, failed to comply with its RCRA permit record-keeping obligations, failed to meet the permit exemptions for its less than 90-day storage tanks, and failed to comply with its RCRA permit obligation to minimize risk of releases of hazardous waste, all in violation of Section 3005 of RCRA, 42 U.S.C. 6925, and EPA's implementing regulations; and failed to timely submit a Toxic Release Inventory report form to EPA for calendar years 2010 and 2011, in violation of Section 313 of EPCRA, 42 U.S.C. 11023, and EPA's implementing regulations. The Complaint seeks the imposition of civil penalties for these violations.

Pursuant to the proposed Agreement, TAPI will pay a penalty in the amount of $539,784. The proposed Agreement resolves the civil claims of the United States for the violations alleged in the Complaint through the date of lodging of the Stipulation.

The publication of this notice opens a period for public comment on the Agreement. Comments should be addressed to the Assistant Attorney General, Environment and Natural Resources Division, and should refer to United States v. TAPI Puerto Rico, Inc., No. 3:20-cv-01178 (D.P.R.), D.J. Ref. No. 90-5-2-1-11448. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Agreement may be examined and downloaded at this Justice Department website: https://www.justice.gov/enrd/consent-decrees. We will provide a paper copy of the Agreement upon written request and payment of reproduction costs. Please mail your request and payment to: Consent Decree Library, U.S. DOJ—ENRD, P.O. Box 7611, Washington, DC 20044-7611.

Please enclose a check or money order for $3.25 (25 cents per page reproduction cost) payable to the United States Treasury.

Henry Friedman,
Assistant Section Chief, Environmental Enforcement Section, Environment and Natural Resources Division.

[FR Doc. 2020-08132 Filed 4-16-20; 8:45 am]

BILLING CODE 4410-15-P